DEPARTMENT OF THE INTERIOR

National Park Service

National Park of American Samoa; Federal Advisory Commission; Notice of Meeting

Notice is given in accordance with the Federal Advisory Committee Act that a meeting of the National Park of American Samoa Federal Advisory Commission will be held from 10 a.m. to 12 p.m., Saturday, July 14, 2007, at the National Park of American Samoa visitor center in Pago Plaza. The agenda for the meeting will include:

Welcome and Introductions.

Request for suggestions for exhibits for the visitor center.

Request for review of wayside exhibit signs.

Scoping for opening a trail from Upper Sauma Ridge to the Vatia Powerline Trail.

Report on work that the park has been performing.

Other Board issues.

Public Comments on any park issue.

The meeting is open to the public and the public is encouraged to make comments or ask questions. Minutes of the meeting will be available to the public after approval of the full Advisory Commission. For copies of the minutes, contact the National Park of American Samoa Superintendent at 684-633-7082, or e-mail NPSA_Superintendent@nps.gov.

Dated: April 19, 2007.
Roger Moder,
Superintendent.

[FR Doc. 07-2598 Filed 5-24-07; 8:45am]

BILLING CODE 4312-53-M